DEPARTMENT OF TRANSPORTATION

Federal Aviation Administration

14 CFR Part 61, 63, 65, 108, 121 and 135

[Docket No. FAA-2000-7497; Amendment No. 61-107, 63-30, 65-41, 108-18, 121-280 and 135-79]

RIN 2120-AH01

Advanced Qualification Program; Correction

AGENCY: Federal Aviation Administration (FAA), DOT.

ACTION: Final rule; correction.

SUMMARY: This document contains a correction to the final rule, published in the Federal Register on October 10, 2000 (65 FR 60334). That final rule established a new termination date for Special Federal Aviation Regulation (SFAR) No. 58 (55 FR 40275; October 2, 1990), which provided the approval of an alternate method (known as “Advanced Qualification Program” or “AQP”) for qualifying, training and certifying, and otherwise ensuring the competeny of crewmembers, aircraft dispatchers, other operations personnel, instructors, and evaluators who are required to be trained or qualified under 14 CFR parts 121 and 135.

FOR FURTHER INFORMATION CONTACT: Thomas M. Longridge, (703) 661-0260.

Correction of Publication

In the final rule FR Doc. 00-25951, beginning on page 60334 in the Federal Register issue of October 10, 2000, make the following corrections:

1. On page 60334, in column 1, in the heading section, beginning on line 7, correct “Amendment No. 61-107, 63-30, 65-41, 108-18, 121-280 and 135-78” to read “Amendment Nos. 61-107, 63-30, 65-41, 108-18, 121-280 and 135-79”.

Issued in Washington, DC on June 6, 2001.
Donald Byrne,
Assistant Chief Counsel, Regulations Division.

[FR Doc. 01-14656 Filed 6-8-01; 8:45 am]

BILLING CODE 4910-13-M